SECURITIES AND EXCHANGE COMMISSION

[Release No. 34-45315; File No. SR-OPRA-2001-05]

Options Price Reporting Authority; Notice of Filing and Immediate Effectiveness of Amendment to OPRA Plan To Revise OPRA's Fee Schedule To Reflect Changes to Various Fees

January 18, 2002.

Pursuant to rule 11Aa3-2 under the Securities Exchange Act of 1934 (“Act”),¹ notice is hereby given that on December 11, 2001, the Options Price Reporting Authority (“OPRA”),² submitted to the Securities and Exchange Commission (“Commission”) an amendment to the Plan for Reporting of Consolidated Options Last Sale Reports and Quotation Information (“OPRA Plan”). The proposed amendment would (i) increase certain fees charged by OPRA in respect of its Basic Service; (ii) expand the entitlement of professional subscribers that elect to pay OPRA's Enterprise Rate Professional Subscriber Fee in lieu of the device-based Professional Subscriber Fee by adding to the category of persons entitled to receive OPRA market data under the subscribers' Enterprise Rate plan independent investment advisers that contract with such subscribers to provide services to the subscriber's customers; and (iii) eliminate the “Ratio Paging Service Fee” as a separate usage-based fee, and clarify that radio paging and related types of services qualify for the “dial-up” usage-based fee, at the same rate. OPRA has designated the proposed OPRA Plan amendment as establishing or changing a fee or other charge collected on behalf of all of the OPRA participants in connection with access to or use of OPRA facilities and the proposal is, therefore, effective upon filing, pursuant to Rule 11Aa3-2(c)(3)(i) under the Act.³ The Commission is publishing this notice to solicit comments on the proposed OPRA Plan amendment from interested persons.

¹ 17 CFR 240.11Aa3-2.

² OPRA is a national market system plan approved by the Commission pursuant to Section 11A of the Exchange Act, 15 U.S.C. 78k-1, and Rule 11Aa3-2 thereunder, 17 CFR 240.11Aa3-2. See Securities Exchange Act Release No. 17638 (March 18, 1981), 22 S.E.C. Docket 484 (March 31, 1981). The OPRA Plan provides for the collection and dissemination of last sale and quotation information on options that are traded on the participant exchanges. The five signatories to the OPRA Plan that currently operate an options market are the American Stock Exchange, the Chicago Board Options Exchange, the International Securities Exchange, the Pacific Exchange, and the Philadelphia Stock Exchange. The New Stock Exchange is a signatory to the OPRA Plan, but sold its options business to the Chicago Board Options Exchange in 1997. See Securities Exchange Act Release No. 38542 (April 23, 1997), 62 FR 23521 (April 30, 1997).

³ 17 CFR 240.11Aa3-2(c)(3)(i).

I. Description and Purpose of the Amendment

The text of the revised fee schedule is set forth below. Text additions are in italics, deletions are in brackets:

Options Price Reporting Authority Fee Schedule
[Effective February 1, 2002]
Description | Basic service ⁴
Direct Access Charge: A monthly fee payable by every person that has been authorized by OPRA to receive Options Information via the consolidated high-speed service from OPRA's processor. This charge includes one primary and one back-up circuit connection at the processor. Additional circuit connections are available at a monthly charge of $100 per connection | $1,000 [$750]
Redistribution Fee: A monthly fee payable by every vendor that redistributes Options Information to any person, whether on a current or delayed basis, except that this fee shall not apply to a vendor whose redistribution of Options Information is limited solely to “historical” Options Information, as that term is defined in the Vendor Agreement | $1,500 $650 [$600] (Internet service only)
Dial-up Market Data Service Utilization Fee: A monthly fee, payable in arrears, consisting of a usage-based fee for each “quote packet” consisting of any one or more of the following values: last sale, bid/ask, and related market data for a single series of options or a related index or, if elected in writing by vendor, a usage-based fee for each “options chain” consisting of last sale, bid/ask, and related market data for up to all series of put and call options on the same underlying security or index, in each case as accessed over vendor's “Dial-up Market Data Service [as an alternative to the port charge described above]. A vendor's “Dial-up Market Data Service” may consist of any wired or wireless private network or Internet-based communications system by means of which a vendor provides options market data to its customers subject to and in accordance with a “Dial-up Market Data Service Rider” to its Vendor Agreement. All inquiries shall be counted for purposes of calculating the usage-based fee, except that requests for “historical” information shall not be subject to charge. For this purpose, market information derived from a given trading day of an options market becomes “historical” upon the opening of trading on the next succeeding trading day of that market | Usage-based fee at a rate of $0.005 per “quote packet” or $0.02 per “options chain”, subject to a maximum fee of $1.00 on account of the use made in any month by any single nonprofessional subscriber.
[Radio Paging Service Fee: A monthly fee, payable in arrears by every vendor that offers a radio paging market data service, for each text display paging device enabled to receive the service provided by the vendor or by a radio paging company that receives options market data from the vendor. Alternatively, vendor may elect in writing to pay a usage-based fee for each “quote packet” consisting of any one or more of the following values: last sale, bid/ask, and related market data for a single series of options or a related index or, if elected in writing by vendor, a usage-based fee for each “options chain” consisting of last sale, bid/ask, and related market data for up to all series of put and call options on the same underlying security or index, in each case as accessed over vendor's Radio Paging Service, as an alternative to the device charge described above. All inquiries shall be counted for purposes of calculating the usage-based fee, except that requests for “historical” information shall not be subject to charge. For this purpose, market information derived from a given trading day of an options market becomes “historical” upon the opening of trading on the next succeeding trading day of that market.] | [$1 per device, or usage-based fee at a rate of $0.005 per “quote packet” or $0.02 per “options chain”.]
⁴ OPRA's Basic Service does not include last sale and quotation information pertaining to foreign currency options. Subscribers who have access to FCO information are subject to a separate FCO Service subscriber fee.

The purpose of the amendment is to increase certain fees charged by OPRA in respect of its Basic Service, to make minor editorial changes to the Basic Service fee schedule, and to expand the coverage of the Enterprise Rate Professional Subscriber Fee. Specifically, OPRA proposes to increase by approximately five percent the device-based information fee payable to OPRA by professional subscribers to OPRA's Basic Service, which consists of market data and related information pertaining to equity and index options (“OPRA data”).⁵ OPRA also proposes to increase from $750 to $1,000 OPRA's direct access charge (applicable to persons who receive OPRA data by means of a direct high-speed connection to the OPRA Processor), and to increase from $600 to $650 OPRA's Internet-only redistribution fee (payable by persons who redistribute OPRA data solely by means of the Internet). OPRA also proposes to update the terminology used in the OPRA fee schedule by eliminating the “Radio Paging Service Fee” as a separate usage-based fee category, and by amending the description of OPRA's “Dial-up Market Data Service Utilization Fee”, which is a usage-based fee at the same rate as the radio paging fee, to make it clear that radio paging services and other types of wired and wireless network services, including Internet-based services, qualify for this usage-based fee. These terminology changes will have no effect on the fees paid to OPRA by any persons.

⁵ No changes are proposed to be made at this time to fees charged to vendors and subscribers for access to information pertaining to foreign currency options provided through OPRA's FCO Service.

The proposed increase in device-based professional subscriber fees ranges from 4.55% to 6.90% of the existing fees. Professional subscriber fees charged to members will continue to be discounted by two percent for members who preauthorize payment by electronic funds transfer through an automated clearinghouse system. OPRA estimates that the overall effect of the proposed increase in professional subscriber fees will be to increase revenues derived from professional subscriber fees by approximately five percent. Professional subscribers are those persons who subscribe to OPRA Data and do not qualify for the reduced fees charged to nonprofessional subscribers.

As an alternative to device-based fees, professional subscribers may pay an Enterprise Rate Professional Subscriber Fee based on the number of their U.S. registered representatives. This amendment proposes to expand the entitlement of professional subscribers that elect to pay OPRA's Enterprise Rate Professional Subscriber Fee by allowing OPRA's Basic Service to be made available to independent investment advisers who contract with such subscribers to provide investment advisory services to the subscribers' customers. Heretofore such investment advisers have had to pay OPRA's regular, device-based professional subscriber fee in order to access OPRA data. All investment advisers who contract with an Enterprise Rate professional subscriber to provide investment advisory services to the subscriber's customers, and who will therefore be entitled to access OPRA data under the sponsorship of the subscriber, will be added to the subscriber's count of registered representatives for purposes of calculating the subscriber's Enterprise Rate Professional Subscriber Fee. No other changes are proposed to be made to the Enterprise Rate Professional Subscriber Fee.

The proposed increases in the device-based professional subscriber fee, the direct access fee, and the Internet-only redistribution fee are intended to generate additional revenues for OPRA in order to cover actual and anticipated increases in the costs of collecting, consolidating, processing and disseminating options market. These increases reflect the costs of continuing enhancements to and upgrades of the OPRA system to enable it to handle a greater volume of market information as a result of the continuing expansion of listed options trading and the implementation of decimal pricing. The proposed expanded entitlement of Enterprise Rate subscribers to include independent investment advisers reflects the expanded utilization of independent investment advisers by retail brokerage firms, and is intended to lower the cost of access to OPRA data to those firms and to their independent investment advisers.

II. Implementation of the Plan Amendment

OPRA represents that the proposed OPRA Plan amendment establishes or changes a fee or other charge collected on behalf of all of the OPRA participants in connection with access to or use of OPRA facilities and is, therefore, effective upon filing, pursuant to Rule 11Aa3-2(c)(3)(i) under the Act.⁶ In order to give persons subject to the fees advance notice of the changes, OPRA proposes to put them into effect commencing February 1, 2002. At any time within 60 days of the filing of the OPRA Plan amendment, the Commission may summarily abrogate the amendment and require that such amendment be filed in accordance with Rule 11Aa3-2(b)(1) under the Act ⁷ and reviewed in accordance with Rule 11Aa3-2(c)(2) under the Act ⁸ if it appears to the Commission that such action is necessary or appropriate in the public interest, for the protection of investors, or the maintenance of fair and orderly markets; to remove impediments to, and perfect the mechanisms of, a national market system; or otherwise in furtherance of the purposes of the Act.

⁶ 17 CFR 240.11 Aa3-2(c)(3)(i).

⁷ 17 CFR 240.11 Aa3-2(b)(1).

⁸ 17 CFR 240.11 Aa3-2(c)(2).

III. Solicitation of Comments

Interested persons are invited to submit written data, views, and arguments concerning the foregoing, including whether the proposed OPRA Plan amendment is consistent with the Act. Persons making written submissions should file six copies thereof with the Secretary, Securities and Exchange Commission, 450 Fifth Street, NW, Washington, DC, 20549-0609. Copies of the submission, all subsequent amendments, and all written statements with respect to the proposed OPRA Plan amendment that are filed with the Commission, and all written communications relating to the proposed OPRA Plan amendment between the Commission and any person, other than those withheld from the public in accordance with the provisions of 5 U.S.C. 552, will be available for inspection and copying in the Commission's Public Reference Room. Copies of the filing will also be available at the principal offices of OPRA. All submissions should refer to File No. SR-OPRA-2001-05 and should be submitted by February 20, 2002.

For the Commission, by the Division of Market Regulation, pursuant to delegated authority.⁹
⁹ 17 CFR 200.30-3(a)(29).
J. Lynn Taylor,
Assistant Secretary.

[FR Doc. 02-2214 Filed 1-29-02; 8:45 am]

BILLING CODE 8010-01-M